DEPARTMENT OF COMMERCE

National Oceanic and Atmospheric Administration

Evaluation of State Coastal Management Programs

AGENCY: National Oceanic and Atmospheric Administration (NOAA), Office for Coastal Management, National Ocean Service, Commerce.

ACTION: Notice of intent to evaluate and notice of availability of final findings.

SUMMARY: The NOAA Office for Coastal Management announces its intent to evaluate the performance of the American Samoa, Ohio, and Virginia Coastal Management Programs.

The Coastal Zone Management Program evaluations will be conducted pursuant to section 312 of the Coastal Zone Management Act of 1972, as amended (CZMA) and regulations at 15 CFR part 923, subpart L. The CZMA requires continuing review of the performance of states with respect to coastal program implementation. Evaluation of a Coastal Management Program requires findings concerning the extent to which a state has met the national objectives, adhered to its Coastal Management Program document approved by the Secretary of Commerce, and adhered to the terms of financial assistance awards funded under the CZMA.

The evaluations will include a public meeting, consideration of written public comments and consultations with interested Federal, state, and local agencies and members of the public. When the evaluation is completed, the Office for Coastal Management will place a notice in the Federal Register announcing the availability of the Final Evaluation Findings. Notice is hereby given of the date, local time, and location of the public meeting.

DATES: Date and Time: The American Samoa Coastal Management Program public meeting will be held on Wednesday, May 27, 2015 at 5:00 p.m. local time at the North Wing of the Lee Auditorium.

The Ohio Coastal Management Program public meeting will be held on Wednesday, May 20, 2015, at 5:30 p.m. at the Ritter Public Library—Community Meeting Room, 5680 Liberty Avenue, Vermilion, OH 44089.

The Virginia Coastal Management Program public meeting will be held on Tuesday, May 12, 2015 at 5:00 p.m. at the Virginia Department of Environmental Quality, 2nd Floor Training Room, 629 E. Main St., Richmond, VA 23219.

ADDRESSES: Copies of each state's most recent performance report, as well as the Office for Coastal Management evaluation notification letter to the state, are available upon request. Written comments from interested parties regarding these programs are encouraged and will be accepted until June 5, 2015 for the American Samoa Coastal Management Program, May 29, 2015 for the Ohio Coastal Management Program, and May 15, 2015 for the Virginia Coastal Management Program. Please direct written comments to Carrie Hall, Evaluator, Planning and Performance Measurement Program, Office for Coastal Management, NOS/NOAA, 1305 East-West Highway, 11th Floor, N/OCM1, Silver Spring, Maryland 20910, or Carrie.Hall@noaa.gov.

SUPPLEMENTARY INFORMATION: Notice is hereby given of the availability of the final evaluation findings for the Connecticut, Massachusetts, and Michigan Coastal Management Programs (CMPs) and Waquoit Bay National Estuarine Research Reserve (NERR). Sections 312 and 315 of the CZMA, as amended, require a continuing review of the performance of coastal states with respect to approval of CMPs and the operation and management of NERRs. The states of Connecticut, Massachusetts, and Michigan were found to be implementing and enforcing their federally approved coastal management programs, addressing the national coastal management objectives identified in CZMA Section 303(2)(A)-(K), and adhering to the programmatic terms of their financial assistance awards. The Waquoit Bay NERR was found to be adhering to programmatic requirements of the NERR System.

Copies of these final evaluation findings may be downloaded at http://coast.noaa.gov/czm/evaluations/evaluation_findings/index.html or obtained upon written request from: Carrie Hall, Evaluator, Planning and Performance Measurement Program, Office for Coastal Management, NOS/NOAA, 1305 East-West Highway, 11th Floor, N/OCM1, Silver Spring, Maryland 20910, or Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov.

Federal Domestic Assistance Catalog 11.419

Dated: April 9, 2015.
Coastal Zone Management Program Administration.
Christopher C. Cartwright,
Associate Assistant Administrator for Management and CFO/CAO, Ocean Services and Coastal Zone Management National, Oceanic and Atmospheric Administration.

[FR Doc. 2015-08721 Filed 4-15-15; 8:45 am]

BILLING CODE 3510-08-P